DEPARTMENT OF AGRICULTURE

Animal and Plant Health Inspection Service

7 CFR Part 319

[Docket No. APHIS-2006-0121]

RIN 0579-AC19

Importation of Mangoes From India; Technical Amendment

AGENCY: Animal and Plant Health Inspection Service, USDA.

ACTION: Final rule; technical amendment.

SUMMARY: We are amending the regulations regarding the importation of mangoes from India to further clarify our requirements regarding inspection of the mangoes. A previous technical amendment amended the regulations to allow mangoes treated with irradiation in the United States to be inspected by the national plant protection organization (NPPO) of India in India, and subsequently by the Animal and Plant Health Inspection Service (APHIS) at the port of entry within the United States, rather than being jointly inspected by APHIS and the NPPO in India in all cases. However, in that technical amendment, we neglected to also remove two references to preclearance inspections within India. This document corrects that error.

DATES: Effective July 14, 2016.

FOR FURTHER INFORMATION CONTACT: Dr. Nicole Russo, Director, Imports, Regulations, and Manuals, APHIS-PPQ Unit 133, Riverdale, MD 20737-1236; (301) 851-2159.

SUPPLEMENTARY INFORMATION: In a final rule ¹ published in the Federal Register on July 20, 2012 (77 FR 42621-42625, Docket No. APHIS-2009-0100), and effective on August 20, 2012, we amended the regulations in 7 CFR 319.56-46 to allow for irradiation treatment of mangoes from India upon arrival in the mainland United States rather than just at the point of origin.

¹ To view the final rule and related documents, go to http://www.regulations.gov/#!docketDetail;D=APHIS-2009-0100.

In a technical amendment ² published in the Federal Register on September 21, 2012 (77 FR 58470-58471, Docket No. APHIS-2009-0100), we amended paragraph (c) of § 319.56-46, which contains inspection requirements for mangoes from India, to allow mangoes intended for irradiation treatment within the United States to be inspected by the national plant protection organization (NPPO) of India prior to shipment to the United States, and subsequently to be inspected by an inspector upon arrival at the port of entry in the United States. Prior to that technical amendment, paragraph (c) had required a joint preclearance inspection in India for all mangoes intended for export to the United States.

² To view the technical amendment, go to http://www.regulations.gov/#!docketDetail;D=APHIS-2009-0100.

In that technical amendment, however, we neglected to also amend paragraphs (d) and (e)(2) of § 319.56-46, which together required consignments of mangoes to be inspected during preclearance activities and accompanied by a phytosanitary certificate with an additional declaration that the mangoes were inspected during preclearance activities and found free of Cytosphaera mangiferae, Macrophoma mangiferae, and Xanthomonas campestri pv. mangiferaeindicae.

Because we did not amend these requirements to remove references to preclearance activities, there has continued to be confusion among stakeholders regarding whether preclearance inspections are required for mangoes from India intended for irradiation in the United States. As noted in the previous technical amendment, however, we consider preclearance inspections, which are jointly conducted by the Animal and Plant Health Inspection Service and the NPPO of India, to be necessary only when irradiation will take place in India. If the mangoes will be irradiated in the United States, we require the mangoes to be inspected in the United States prior to this treatment. Accordingly, it is more useful and cost effective for the NPPO to initially inspect the mangoes in India, and for us to subsequently inspect the mangoes at the port of entry into the United States. As a result, we are amending paragraphs (d) and (e)(2) of § 319.56-46 to remove their references to preclearance activities.

List of Subjects in 7 CFR Part 319

Coffee, Cotton, Fruits, Imports, Logs, Nursery stock, Plant diseases and pests, Quarantine, Reporting and recordkeeping requirements, Rice, Vegetables.

Accordingly, we are amending 7 CFR part 319 as follows:

PART 319—FOREIGN QUARANTINE NOTICES

1. The authority citation for part 319 continues to read as follows:

Authority: 7 U.S.C. 450, 7701-7772, and 7781-7786; 21 U.S.C. 136 and 136a; 7 CFR 2.22, 2.80, and 371.3.

§ 319.56-46 [Amended]

2. In § 319.56-46, paragraphs (d) and (e)(2) are amended by removing the words “during preclearance activities”.

Done in Washington, DC, this 8th day of July 2016.
Kevin Shea,
Administrator, Animal and Plant Health Inspection Service.

[FR Doc. 2016-16702 Filed 7-13-16; 8:45 am]

BILLING CODE 3410-34-P